NATIONAL AREONAUTICS AND SPACE ADMINISTRATION

[Notice (01-108)]

NASA Advisory Council (NAC), Earth Science Data and Information Systems and Services Advisory Subcommittee (ESDISSAS); Meeting

AGENCY: National Aeronautics and Space Administration.

ACTION: Notice of meeting.

SUMMARY: In accordance with the Federal Advisory Committee Act, Pub. L. 92-463, as amended, the National Aeronautics and Space Administration announces a meeting of the NASA Advisory Council, Earth Systems Science and Applications Advisory Committee, Earth Science Data and Information Systems and Services Advisory Subcommittee.

DATES: Wednesday, October 3, 2001, 8:15 a.m. to 5:15 p.m.; and Thursday, October 4, 2001, 8:15 a.m. to 4 p.m.

ADDRESSES: NASA Headquarters, 300 E Street SW, Room MIC-7A, Washington, DC 20546

FOR FURTHER INFORMATION CONTACT: Ms. Martha Maiden, Code YS, National Aeronautics and Space Administration, Washington, DC 20546, 202/358-1078.

SUPPLEMENTARY INFORMATION: The meeting will be open to the public up to the seating capacity of the room. The agenda for the meeting is as follows:

—Welcome and Introduction Comments

—State-of-the-Enterprise

—Earth Science Enterprise (ESE) Budget Overview

—ESE Data Systems and Services

—Earth Science Technology Office Broad Area Announcement and transition to usage Report from Earth Science Data and Information System Project

—New Data and Information Systems and Services (NewDISS) Report 1.0 Release Readiness

—NewDISS Formulation Status

—Earth Science Information Partners (ESIP) planning status

—Future of Federation and its Role in NewDISS

—New ESE Data Access Prioritization Group

—Summary of first day

—State of and Strategy for High-End Computing and Climate Modeling

—Data Policy for ESE Data Buys

—Overall Discussion and Recommendations

—General Discussion/Closing Remarks and Adjournment

It is imperative that the meeting be held on these dates to accommodate the scheduling priorities of the key participants. Visitors will be requested to sign a visitor's register.

Beth McCormick,
Advisory Committee Management Officer, National Aeronautics and Space Administration.

[FR Doc. 01-22572 Filed 9-7-01; 8:45 am]

BILLING CODE 7510-01-P